DEPARTMENT OF THE INTERIOR

National Park Service

National Register of Historic Places; Notification of Pending Nominations and Related Actions

Nominations for the following properties being considered for listing or related actions in the National Register were received by the National Park Service before February 19, 2005. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington, DC 20005; or by fax, (202) 371-6447. Written or faxed comments should be submitted by March 25, 2005.

Carol D. Shull,
Keeper of the National Register of Historic Places.

CALIFORNIA

Los Angeles County

El Cabrillo, 1832-1850 N. Grace Ave., Los Angeles, 05000211

Second Church of Christ Scientist, 655 Cedar Ave., Long Beach, 05000212

Security-First National Bank of Los Angeles, 529 Wilshire Blvd., Los Angeles, 05000213

Wayfarers Chapel, 5755 Palos Verdes Dr. S., Rancho Paolos Verdes, 05000210

COLORADO

Pueblo County

Squirrel Creek Recreational Unity, San Isabel National Forest, Beulah, 05000215

San Miguel County

Fort Peabody, Uncompahgre National Forest, Telluride, 05000214

FLORIDA

Washington County

Chipley City Hall, 672 Fifth St., Chipley, 05000216

MASSACHUSETTS

Hampden County

Smith, Thomas and Esther, House, 251 North West St., Agawam, 05000217

Hampshire County

Bisbee Mill, 66 East St., Chesterfield, 05000219

Norfolk County

Franklin Common Historic District, Main, High, Union, Pleasant Sts. and Church Sq., Franklin, 05000218

MISSOURI

Jackson County

Pickwick Hotel, Office Building, Parking Garage and Bus Terminal, 901-937 McGee St., 301-311 E. 9th St., 300-310 E. Tenth St., 906-912 Oak St., Kansas City, 05000220

NEW JERSEY

Morris County

Gibbons, William, Stable and Farm, Loantaka Way, Chatham Township, 05000222

Somerset County

South Branch Schoolhouse, South Branch River Rd., Township of Branchburg, 05000221

NEW YORK

Bronx County

242nd Street—Van Corlandt Park Station (IRT), (New York City Subway System MPS) Above Broadway at the jct. of W. 242nd St., Bronx, 05000226

Westchester Square Station (Dual System IRT), Above Westchester Ave., from Overing St. to Ferris Place, Bronx, 05000227

New York County

145th Street Subway Station (IRT), (New York City Subway System MPS) Under Lenox Avenue at the jct. with 145th St., New York, 05000231

168th Street Subway Station (IRT), (New York City Subway System MPS) Under Broadway at the jct. of W. 168th St., New York, 05000232

181st Street Subway Station (IND), (New York City Subway System MPS) Fort Washington Ave., Vet. W. 185th and 181st Sts., New York, 05000233

181st Street Subway Station (IRT), (New York City Subway System MPS) Under St. Nicholas Ave. bet. W. 181st and W. 180th Sts.s, New York, 05000224

190th Street Subway Station (IND), (New York City Subway System MPS) Under Fort Washington Ave. bet. Fort Tryon Park (Cabrini Blvd.) and W. 190th St., New York, 05000225

28th Street Subway Station (IRT), (New York City Subway System MPS) Under Park Avenue S., bet. E. 29th and 27th Sts., New York, 05000230

86th Street Subway Station (Dual System IRT), (New York City Subway System MPS) Under Lexington Ave., bet. E. 85th and E. 87th Sts., New York, 05000236

Chambers Street Subway Station (Dual System IRT), (New York City Subway System MPS) Under West Broadway bet. Warren, Chambers and Reade Sts., New York, 05000234

Pelham Parkway Station (Dual System IRT), (New York City Subway System MPS) Jct. of White Plains Rd. and Pelham Pkwy, Bronx, 05000228

West 28th Street Subway Station (Dual System IRT), (New York City Subway System MPS) Seventh Ave. bet. West 26th and West 29th Sts., New York, 05000235

West 4th Street Subway Station (IND), (New York City Subway System MPS) Under Sixth Ave. bet. W. 3rd St. and Waverly Place, New York, 05000223

Queens County

45th Road—Court House Square Station (Dual System IRT), (New York City Subway System MPS) Above 23rd St. bet. 44th Dr. and 45th Rd., Queens, 05000229

SOUTH DAKOTA

Codington County

Zech Farmstead, 16676 456th Ave., Watertown, 05000237

TEXAS

Atascosa County

Republic National Bank, 300 N. Ervay/325 N. St. Paul St., Dallas, 05000243

Collin County

Farmersville Masonic Lodge No. 214, A.F. and A.M, 101 S. Main St., Farmersville, 05000245

Fort Bend County

Lamar—Calder House, 915 Front St., Richmond, 05000244

Galveston County

Fort Travis, TX 87 at Loop 108, Port Bolivar, 05000247

Harris County

Neuhaus, Hugo V., Jr., House, 2910 Lazy Ln., Houston, 05000246

Tarrant County

Leuda—May Historic District, 301-311 W. Leuda and 805-807 May Sts., Fort Worth, 05000240

Travis County

George Washington Carver Library, 1165 Angelina St., Austin, 05000241

Limerick—Frazier House, (East Austin MRA) 810 E. 13th St., Austin, 05000238

Limerick—Frazier House, (East Austin MRA) 810 E. 13th St., Austin, 05000239

Simms House, 906 Mariposa Dr., Austin, 05000242

WASHINGTON

Spokane County

Robinwood Apartments, 209-223 West Ninth Ave., Spokane, 05000248

Whitman County

Holy Trinity Episcopal Church, 105 E. Alder St., Palouse, 05000249

WISCONSIN

Milwaukee County

Wisconsin Leather Company Building, 320 E. Clybourn St., Milwaukee, 05000250

[FR Doc. 05-4640 Filed 3-9-05; 8:45 am]

BILLING CODE 4312-51-P